DEPARTMENT OF COMMERCE

International Trade Administration

[A-475-818]

Certain Pasta From Italy: Notice of Partial Rescission of Antidumping Duty Administrative Review

AGENCY: Enforcement and Compliance, International Trade Administration, Department of Commerce.

DATES: Applicable February 20, 2019.

FOR FURTHER INFORMATION CONTACT: Joy Zhang or George McMahon, AD/CVD Operations, Office III, Enforcement and Compliance, International Trade Administration, U.S. Department of Commerce, 1401 Constitution Avenue NW, Washington, DC 20230; telephone: (202) 482-1168 or (202) 482-1167, respectively.

SUPPLEMENTARY INFORMATION:

Background

On July 3, 2018, the Department of Commerce (Commerce) published a notice of opportunity to request an administrative review of the antidumping duty order on certain pasta from Italy.¹ Pursuant to requests from interested parties, and in accordance with section 751(a) of the Tariff Act of 1930, amended (the Act), Commerce published in the Federal Register the notice of initiation of an antidumping duty administrative review with respect to the following companies covering the period July 1, 2017, through June 30, 2018:

¹ See Antidumping or Countervailing Duty Order, Finding, or Suspended Investigation; Opportunity To Request Administrative Review, 83 FR 31121 (July 3, 2018).

Agritalia S.r.L. (Agritalia), Francesco Tamma S.p.A. (Tamma), Ghigi 1870 S.p.A. (Ghigi), Ghigi Industria Agroalimentare in San Clemente S.r.l., Pasta Zara S.p.A. (Zara), Industria Alimentare Colavita S.p.A. (Indalco), La Molisana S.p.A. (La Molisana), and Tesa SrL (Tesa).²

² See Initiation of Antidumping and Countervailing Duty Administrative Reviews, 83 FR 45596 (September 10, 2018) (Initiation Notice).

On October 1, 2018, Tamma timely withdrew its request for a review.³ On November 9, 2018, La Molisana timely withdrew its request for a review.⁴ No other party requested an administrative review of these particular companies.

³ See Letter from Tamma to Commerce, “Certain Dry Pasta from Italy, A-475-818—Withdrawal of Administrative Review Request of Francesco Tamma S.p.A.,” dated October 1, 2018.

⁴ See Letter from La Molisana to Commerce, “Certain Dry Pasta from Italy A-475-818; Withdraw Request for Review,” dated November 9, 2018.

Partial Rescission of the 2017-2018 Administrative Review

Pursuant to 19 CFR 351.213(d)(1), Commerce will rescind an administrative review, in whole or in part, if the parties that requested a review withdraw the request within 90 days of the date of publication of the notice of initiation of the requested review. All of the aforementioned withdrawal requests were timely submitted and no other interested party requested an administrative review of these particular companies. Therefore, in accordance with 19 CFR 351.213(d)(1), and consistent with our practice,⁵ we are rescinding this review of the antidumping duty order on certain pasta from Italy, in part, with respect to Tamma and La Molisana.

⁵ See, e.g., Certain Lined Paper Products from India: Notice of Partial Rescission of Antidumping Duty Administrative Review and Extension of Time Limit for the Preliminary Results of Antidumping Duty Administrative Review, 74 FR 21781 (May 11, 2009); see also Carbon Steel Butt-Weld Pipe Fittings from Thailand: Rescission of Antidumping Duty Administrative Review, 74 FR 7218 (February 13, 2009).

The instant review will continue with respect to the following companies: Agritalia, Ghigi/Zara,⁶ Indalco, and Tesa.

⁶ In the 2015-2016 antidumping duty administrative review of certain pasta from Italy, Commerce determined that Ghigi 1870 S.p.A. was formerly known as Ghigi Industria Agroalimentare in San Clemente S.r.l. We also collapased Ghigi 1870 S.p.A. and Pasta Zara S.p.A. (collectively, Ghigi/Zara). See Certain Pasta From Italy: Preliminary Results of Antidumping Duty Administrative Review; 2015-2016, 82 FR 36126 (August 3, 2017), unchanged in Certain Pasta From Italy: Final Results of Antidumping Duty Administrative Review; 2015-2016, 82 FR 57428 (December 5, 2017).

Assessment

Commerce will instruct U.S. Customs and Border Protection (CBP) to assess antidumping duties on all appropriate entries. For the companies for which this review is rescinded, Tamma and La Molisana, antidumping duties shall be assessed at rates equal to the cash deposit of estimated antidumping duties required at the time of entry, or withdrawal from warehouse, for consumption, during the period July 1, 2017, through June 30, 2018, in accordance with 19 CFR 351.212(c)(1)(i).

Commerce intends to issue appropriate assessment instructions directly to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of doubled antidumping duties.

Notification Regarding Administrative Protective Order

This notice serves as a final reminder to parties subject to administrative protective order (APO) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: February 14, 2019.
James Maeder,
Associate Deputy Assistant Secretary for Antidumping and Countervailing Duty Operations performing the duties of Deputy Assistant Secretary for Antidumping and Countervailing Duty Operations.

[FR Doc. 2019-02786 Filed 2-19-19; 8:45 am]

BILLING CODE 3510-DS-P